DEPARTMENT OF DEFENSE

Office of the Secretary

[Docket ID: DOD-2010-OS-0126]

Privacy Act of 1974; System of Records

AGENCY: Department of Defense (DoD).

ACTION: Notice to add a system of records.

SUMMARY: The Office of the Secretary of Defense proposes to add a system of records to its inventory of record systems subject to the Privacy Act of 1974 (5 U.S.C. 552a), as amended.

DATES: This proposed action will be effective without further notice on October 27, 2010, unless comments are received which result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington, DC 20301-1155.

The proposed system report, as required by 5 U.S.C. 552a(r) of the Privacy Act of 1974, as amended, was submitted on September 13, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: September 22, 2010.
Mitchell S. Bryman,
Alternate OSD Federal Register Liaison Officer, Department of Defense.

DPR 40 DoD

SYSTEM NAME:

Wounded Warrior Care and Recovery Transition Coordination Program System Solution

SYSTEM LOCATION:

Manpower Information Systems Technology Branch, Manpower Information Systems Division, Manpower and Reserve Affairs Headquarters, U.S. Marine Corps, 3280 Russell Road, Quantico, VA 22134-5103.

CATEGORIES OF INDIVIDUALS COVERED BY THE SYSTEM:

Department of Defense military members, including Active, Reserve, and National Guard, and Coast Guard personnel undergoing medical treatment, recuperation or therapy who incurred or aggravated a serious illness or injury in the line of duty; and may be assigned to a temporary disability retired or permanent disability retired list due to the Military Department's disability evaluation system proceedings.

CATEGORIES OF RECORDS IN THE SYSTEM:

Name, rank/grade, Military Occupational Specialty (MOS), Social Security Number (SSN), date of birth, current address, home telephone number, service separation information including Permanent Duty Retirement List (PDRL), Temporary Duty Retirement List (TDRL), and medical separation, limited injury and illness-specific medical information, and other personnel management data specifically awards, time in service, end active obligated service date, demobilization date, separation date, retirement date, temporary disability retirement list date, permanent disability retirement, and spouse and/or primary caregiver name, address, and telephone number (home, cell and/or work).

AUTHORITY FOR MAINTENANCE OF THE SYSTEM:

10 U.S.C. 113, Secretary of Defense; DoD Directive 5124.02, Under Secretary of Defense for Personnel and Readiness (USD(P&R)); DoD Instruction 1300.24, Recovery Coordination Program (RCP); and E.O. 9397, (SSN) as amended.

PURPOSE(S):

To improve the care, management, and transition of recovering Service Members. Contact information is used by Recovery Care Coordinators to facilitate the uniformity and effectiveness of care and transition from active duty to temporary or permanent retirement for eligible individuals. These records are also used as a management tool for statistical analysis, tracking, reporting, evaluating program effectiveness and conducting research.

ROUTINE USES OF RECORDS MAINTAINED IN THE SYSTEM INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows.”

The DoD ‘Blanket Routine Uses’ set forth at the beginning of the Office of the Secretary of Defense compilation of systems of records notices apply to this system.

POLICIES AND PRACTICES FOR STORING, RETRIEVING, ACCESSING, RETAINING, AND DISPOSING OF RECORDS IN THE SYSTEM:

STORAGE:

Paper file folders and electronic storage media.

RETRIEVABILITY:

Name, Social Security Number (SSN), rank/grade.

SAFEGUARDS:

The data will be housed at computer facilities and terminals located in restricted areas accessible only to authorized persons that are properly screened, cleared and trained. All users are required to provide a valid common access card (CAC) and access is specifically granted by a system administrator. Records will be maintained in a secure, password protected electronic system that will utilize security hardware and software to include: Multiple firewalls, active intruder detection, and role-based access controls.

RETENTION AND DISPOSAL:

Disposition Pending. Until the National Archives and Records Administration has approved the retention and disposal of these records, treat them as permanent.

SYSTEM MANAGER(S) ADDRESS:

Principal Deputy for Care Coordination, Office of Wounded Warrior Care and Transition Policy, Office of the Secretary of Defense, OUSD (P&R) WWCTP, 200 Stovall Street, Alexandria, VA 22332-0800.

NOTIFICATION PROCEDURE:

Individuals seeking to determine whether information about themselves is contained in this system should address written inquiries to the Principal Deputy for Care Coordination, Office of Wounded Warrior Care and Transition Policy, Office of the Secretary of Defense, OUSD (P&R) WWCTP, 200 Stovall Street, Alexandria, VA 22332-0800.

Written requests must be signed and contain the individual's full name, mailing address and Social Security Number (SSN).

RECORD ACCESS PROCEDURES:

Individuals seeking access to information about themselves contained in this system should address written inquiries to the Office of the Secretary of Defense/Joint Staff Freedom of Information Act Requester Service Center, 1155 Defense Pentagon, Washington DC 20301-1155.

Written requests must include the name and number of this system of record notice, the Service member's full name and Social Security Number (SSN) and be signed.

CONTESTING RECORDS PROCEDURES:

The Office of the Secretary of Defense rules for accessing records, for contesting contents and appealing initial agency determinations are published in Office of the Secretary of Defense Administrative Instruction 81, 32 CFR part 311; or may be obtained from the system manager.

RECORD SOURCE CATEGORIES:

Individuals, the Operational Data Store Enterprise system, the Total Force Data Warehouse, and the Defense Casualty Information Processing System.

EXEMPTIONS CLAIMED FOR THE SYSTEM:

None.

[FR Doc. 2010-24167 Filed 9-24-10; 8:45 am]

BILLING CODE 5001-06-P